FEDERAL COMMUNICATIONS COMMISSION

[DA 12-1467]

Notice of Debarment

AGENCY: Federal Communications Commission.

ACTION: Notice.

SUMMARY: The Enforcement Bureau (the “Bureau”) debars Jonathan M. Slaughter from the schools and libraries universal service support mechanism (or “E-Rate Program”) for a period of three years. The Bureau takes this action to protect the E-Rate Program from waste, fraud, and abuse.

DATES: Debarment commences on the date Mr. Jonathan M. Slaughter receives the debarment letter or October 22, 2012, whichever date comes first, for a period of three years.

FOR FURTHER INFORMATION CONTACT: Joy M. Ragsdale, Attorney Advisor, Federal Communications Commission, Enforcement Bureau, Investigations and Hearings Division, Room 4-C330, 445 12th Street SW., Washington, DC 20554. Joy Ragsdale may be contacted by telephone at (202) 418-1697 or by email at Joy.Ragsdale@fcc.gov. If Ms. Ragsdale is unavailable, you may contact Ms. Theresa Cavanaugh, Chief, Investigations and Hearings Division, by telephone at (202) 418-1420 and by email at Theresa.Cavanaugh@fcc.gov.

SUPPLEMENTARY INFORMATION: The Bureau debarred Mr. Jonathan M. Slaughter from the schools and libraries service support mechanism for a period of three years pursuant to 47 CFR 54.8. Attached is the debarment letter, DA 12-1467, which was mailed to Mr. Slaughter and released on September 10, 2012. The complete text of the notice of debarment is available for public inspection and copying during regular business hours at the FCC Reference Information Center, Portal II, 445 12th Street, SW., Room CY-A257, Washington, DC 20554. In addition, the complete text is available on the FCC's Web site at http://www.fcc.gov. The text may also be purchased from the Commission's duplicating inspection and copying during regular business hours at the contractor, Best Copy and Printing, Inc., Portal II, 445 12th Street, SW., Room CY-B420, Washington, DC 20554, telephone (202) 488-5300 or (800) 378-3160, facsimile (202) 488-5563, or via email http://www.bcpiweb.com.

Federal Communications Commission.
Theresa Z. Cavanaugh,
Chief, Investigations and Hearings Division, Enforcement Bureau.

September 10, 2012

DA 12-1467

SENT VIA CERTIFIED MAIL, RETURN RECEIPT REQUESTED AND EMAIL

Mr. Jonathan M. Slaughter, No. 13660-002

FCI Yazoo City Low

Federal Correctional Institution

P.O. Box 5000

Yazoo City, MS 39194

Re: Notice of Debarment

File No. EB-12-IH-0050

Dear Mr. Slaughter:

The Federal Communications Commission (Commission) hereby notifies you that, pursuant to Section 54.8 of its rules, you are prohibited from participating in activities associated with or relating to the schools and libraries universal service support mechanism (E-Rate program) for three years from either the date of your receipt of this Notice of Debarment, or of its publication in the Federal Register, whichever is earlier in time (Debarment Date).¹

¹ 47 C.F.R. § 54.8(g); see also 47 C.F.R. § 0.111 (delegating authority to the Enforcement Bureau to resolve universal service suspension and debarment proceedings).

On May 9, 2012, the Commission's Enforcement Bureau (Bureau) sent you a Notice of Suspension and Initiation of Debarment Proceeding (Notice of Suspension) ² that was published in the Federal Register on May 24, 2012.³ The Notice of Suspension suspended you from participating in activities associated with or relating to the E-Rate program. It also described the basis for initiating debarment proceedings against you, the applicable debarment procedures, and the effect of debarment.

² Letter from Theresa Z. Cavanaugh, Chief, Investigations and Hearings Division, Enforcement Bureau, Federal Communications Commission, to Jonathan M. Slaughter, Notice of Suspension and Initiation of Debarment Proceeding, 27 FCC Rcd 5091 (Enf. Bur. 2012) (Attachment 1).

³ 77 Fed. Reg. 31010 (May 24, 2012).

As discussed in the Notice of Suspension, on September 29, 2011, you pled guilty to converting approximately $892,000 in E-Rate checks, payable to six schools and 14 school districts located in 13 states, to your personal use while you were the owner and president of E-Rate Consulting Services, LLC (ECS).⁴ Between May 2006 and January 2009, you deposited those E-Rate funds into your ECS bank account for your personal use instead of transmitting them to your clients.⁵ Pursuant to Section 54.8(c) of the Commission's rules, your conviction of criminal conduct in connection with the E-Rate program is the basis for this debarment.⁶

⁴ United States v. Jonathan Slaughter, Case No. 2:11cr162-MEF-01, Plea Agreement at 3-5 (M.D. Ala. 2011) (Plea Agreement); see Appendix.

⁵ Id. at 4-5.

⁶ 47 C.F.R. § 54.8(c).

In accordance with the Commission's debarment rules, you were required to file with the Commission any opposition to your suspension or its scope, or to your proposed debarment or its scope, no later than 30 calendar days from either the date of your receipt of the Notice of Suspension or of its publication in the Federal Register, whichever date occurred first.⁷ The Commission did not receive any such opposition from you.

⁷ 47 C.F.R. §§ 54.8 (e)(3), (4). Any opposition had to be filed no later than June 13, 2012.

For the foregoing reasons, you are debarred from participating in activities associated with or related to the E-Rate program for three years from the Debarment Date.⁸ During this debarment period, you are excluded from participating in any activities associated with or related to the E-Rate program, including the receipt of funds or discounted services through the E-Rate program, or consulting with, assisting, or advising applicants or service providers regarding the E-Rate program.⁹

⁸ Id. §§ 54.8(e)(5), (g).

⁹ Id. §§ 54.8(a)(1), (5), (d).

Sincerely,

Theresa Z. Cavanaugh,

Chief, Investigations and Hearings Division, Enforcement Bureau

cc: Johnnay Schrieber, Universal Service Administrative Company (via email)

Rashann Duvall, Universal Service Administrative Company (via email)

Andrew O. Schiff, Assistant United States Attorney, United States Department of Justice (via email)

Appendix
ECS' clients | State | Total amount converted
Dermott Public School District | Arkansas | $6,809.24
Citrus County School District | Florida | 678,288.69
Eckerd Halfway House/E-Ku Sumee | Florida | 5,670
Hendry County School District | Florida | 39,031.19
Kuna Joint School District | Idaho | 3,523.67
Middleton School District #134 | Idaho | 4,299.25
The Winchendon School | Massachusetts | 8,316.00
Northwood Children's Services | Minnesota | 24,797.66
Prairie Academy | Minnesota | 4,673.99
Poplar Bluff School District | Missouri | 7,672.77
Red Cloud Community School District | Nebraska | 2,254.52
SAU 41—Hollis Brookline Schools | New Hampshire | 1,765.18
Beaufort County School District | North Carolina | 9,730.00
Middle Ohio Education | Ohio | 23.01
Penns Valley Area School District | Pennsylvania | 10,966.83
Bedford County School District | Tennessee | 23,215.94
Banquete Independent School District | Texas | 18,655.72
Cleburne Independent School District | Texas | 7,231.32
Leander Independent School District | Texas | 31,872.31
Teague Independent School District | Texas | 3,190.56
TOTAL |  | 891,987.85

[FR Doc. 2012-23267 Filed 9-20-12; 8:45 am]

BILLING CODE 6712-01-P